DEPARTMENT OF COMMERCE

National Oceanic and Atmospheric Administration

RIN 0648-XG542

New England Fishery Management Council; Public Meeting

AGENCY: National Marine Fisheries Service (NMFS), National Oceanic and Atmospheric Administration (NOAA), Commerce.

ACTION: Notice; public meeting.

SUMMARY: The New England Fishery Management Council (Council) is scheduling a public meeting of its Recreational Advisory Panel to consider actions affecting New England fisheries in the exclusive economic zone (EEZ). Recommendations from this group will be brought to the full Council for formal consideration and action, if appropriate.

DATES: This meeting will be held on Monday, October 29, 2018 at 10 a.m.

ADDRESSES: The meeting will be held at the Hilton Garden Inn, Four Home Depot Drive, Plymouth, MA 02360; phone: (508) 830-0200.

Council address: New England Fishery Management Council, 50 Water Street, Mill 2, Newburyport, MA 01950.

FOR FURTHER INFORMATION CONTACT: Thomas A. Nies, Executive Director, New England Fishery Management Council; telephone: (978) 465-0492.

SUPPLEMENTARY INFORMATION:

Agenda

The Recreational Advisory Panel will receive an overview of recreational fishing data for fishing year 2017 and preliminary fishing year 2018 from National Marine Fisheries Service staff. They will also discuss recent changes to the Marine Recreational Information Program data with respect to groundfish stocks. The panel will receive an update on the Council's public listening sessions on the possibility of limited entry in the groundfish party and charter fishery. The panel will discuss planning the Greater Atlantic Regional Fisheries Office's Upcoming Recreational Workshops building off the outcomes of the 2017 workshop. They also plan to hold a discussion of possible recreational priorities for 2019 and develop recommendations to the Groundfish Committee. Other business will be discussed as necessary.

Although non-emergency issues not contained in this agenda may come before this group for discussion, those issues may not be the subject of formal action during these meetings. Action will be restricted to those issues specifically listed in this notice and any issues arising after publication of this notice that require emergency action under section 305(c) of the Magnuson-Stevens Act, provided the public has been notified of the Council's intent to take final action to address the emergency.

Special Accommodations

This meeting is physically accessible to people with disabilities. Requests for sign language interpretation or other auxiliary aids should be directed to Thomas A. Nies,

Executive Director, at (978) 465-0492, at least 5 days prior to the meeting date.

Authority: 16 U.S.C. 1801 et seq.

Dated: October 11, 2018.
Tracey L. Thompson,
Acting Director, Office of Sustainable Fisheries, National Marine Fisheries Service.

[FR Doc. 2018-22497 Filed 10-15-18; 8:45 am]

BILLING CODE 3510-22-P